FEDERAL EMERGENCY MANAGEMENT AGENCY

44 CFR Part 67

Final Flood Elevation Determinations

AGENCY: Federal Emergency Management Agency (FEMA).

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

EFFECTIVE DATE: The date of issuance of the Flood Insurance Rate Map (FIRM) showing BFEs and modified BFEs for each community. This date may be obtained by contacting the office where the FIRM is available for inspection as indicated in the table below.

ADDRESSES: The final BFEs for each community are available for inspection at the office of the Chief Executive Officer of each community. The respective addresses are listed in the table below.

FOR FURTHER INFORMATION CONTACT: Matthew B. Miller, P.E., Chief, Hazards Study Branch, Mitigation Directorate, FEMA, 500 C Street SW., Washington, DC 20472, (202) 646-3461, or (e-mail) matt.miller@fema.gov.

SUPPLEMENTARY INFORMATION: FEMA makes final determinations listed below of BFEs and modified BFEs for each community listed. The proposed BFEs and proposed modified BFEs were published in newspapers of local circulation and an opportunity for the community or individuals to appeal the proposed determinations to or through the community was provided for a period of ninety (90) days. The proposed BFEs and proposed modified BFEs were also published in the Federal Register.

This final rule is issued in accordance with Section 110 of the Flood Disaster Protection Act of 1973, 42 U.S.C. 4104, and 44 CFR Part 67.

FEMA has developed criteria for floodplain management in floodprone areas in accordance with 44 CFR Part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR part 10, Environmental Consideration. No environmental impact assessment has been prepared.

Regulatory Flexibility Act. The Acting Administrator, Federal Insurance Administration and Mitigation certifies that this rule is exempt from the requirements of the Regulatory Flexibility Act because final or modified BFEs are required by the Flood Disaster Protection Act of 1973, 42 U.S.C. 4104, and are required to establish and maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR Part 67 is amended to read as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. *Elevation in feet (NGVD).
ALASKA
Shishmaref (City), Unorganized Borough (FEMA Docket No. B-7407)
Chukchi Sea:
Approximately 3,140 feet west of Old Gravel Airstrip along north shore of Sarichef Island | ¹ 8
Approximately 400 feet east of Old Gravel Airstrip along north shore of Sarichef Island | ¹ 8
Shishmaref Inlet:
Approximately 1,100 feet east of Old Gravel Airstrip along south shore of Sarichef Island | ¹ 5
Approximately 3,140 feet west of Old Gravel Airstrip along south shore of Sarichef Island | ¹ 8
¹ Mean Sea Level
Maps are available for inspection at the Shishmaref City Hall, Shishmaref, Alaska.
ARKANSAS
Texarkana (City), Miller County (FEMA Docket No. B-7404)
Lost Creek:
Approximately 1,400 feet downstream of Oats Street | +313
Approximately 1,000 feet upstream of Old Post Road | +353
Love Creek:
Approximately 2,700 feet downstream of East Broad Street | +301
Just upstream of Missouri Pacific Railroad | +313
Approximately 600 feet upstream of Meadows Road | +378
Love Creek Tributary:
Approximately 1,200 feet downstream of Magee Drive | +357
Approximately 250 feet upstream of Meadows Road | +377
McKinney Bayou Tributary:
Approximately 5,000 feet downstream of Sugar Hill Road | +271
Approximately 2,800 feet upstream of State Highway 245 | +312
McKinney Bayou Tributary 2A:
Approximately 5,500 feet downstream of Sugar Hill Road (State Route 296) | +266
Just upstream of Sugar Hill Road (State Route 296) | +306
Approximately 3,300 feet upstream of Sugar Hill Road (State Route 296) | +324
McKinney Bayou Tributary 2B:
At confluence with McKinney Bayou Tributary 2A | +306
Approximately 2,000 feet upstream of confluence with McKinney Bayou Tributary 2A | +318
McKinney Bayou Tributary 3:
Approximately 3,200 feet downstream of Sugar Hill Road | +271
Approximately 650 feet upstream of Interstate 30 | +315
McKinney Bayou Tributary 4:
Approximately 650 feet downstream of Sugar Hill Road | +280
Approximately 5,500 feet upstream of Sugar Hill Road | +315
+NAVD of 1988
Maps are available for inspection at City Hall, 216 Walnut Street, Texarkana, Arkansas.
CALIFORNIA
Clayton (City), Contra Costa County (FEMA Docket No. B-7408)
Donner Creek:
At confluence with Mt. Diablo Creek | *424
Approximately 4,400 feet upstream of Marsh Creek Road | *516
Mitchell Creek:
At confluence with Mt. Diablo Creek | *377
Approximately 1,600 feet upstream of Oak Street | *444
Mt. Diablo Creek:
Just upstream of Kirker Pass Road | *304
Just upstream of Oak Circle | *576
Mt. Diablo Creek Split Flow:
Approximately 620 feet downstream of North Mitchell Canyon Road | *342
Approximately 1,700 feet upstream of North Mitchell Canyon Road | *370
Maps are available for inspection at City Hall, 6000 Heritage Trail, Clayton, California.
Concord (City), Contra Costa County (FEMA Docket No. B-7408)
Galindo Creek:
Approximately 100 feet upstream of San Miguel Road | *63
Just upstream of St. Francis Drive | *127
Approximately 200 feet downstream of Dam #1 | *220
Mt. Diablo Creek:
Approximately 2,675 feet downstream of Bailey Road | *196
Approximately 2,475 feet upstream of Kirker Pass Road | *323
Maps are available for inspection at the Permit Center, 3024 Willow Pass Road, Concord, California.
Contra Costa County (Unincorporated Areas) (FEMA Docket No. B-7408)
Mitchell Creek:
Approximately 1,670 feet downstream of Diablo Downs Road | *444
Approximately 2,150 feet upstream of Diablo Downs Road | *535
Mt. Diablo Creek:
Immediately upstream of Bailey Road | *217
Downstream of Russelman Park Road | *609
Green Valley Creek:
At Stone Valley Road | *467
Approximately 4,410 feet upstream of Green Valley Road | *573
Rodeo Creek:
At confluence with San Pablo Creek | *6
Approximately 425 feet upstream of Hawthorne Drive | *28
Garrity Creek:
Approximately 350 feet downstream of Southern Pacific Railroad | *6
Approximately 165 feet upstream of Brian Road | *25
Grayson Creek:
Approximately 1,890 feet (.36 mile) downstream of Interstate | *15
Approximately 195 feet upstream of 2nd Avenue South | *20
Arroyo Del Hambra Creek:
Approximately 1,280 feet (.24 mile) upstream of Alhambra Avenue | *176
Approximately 2,858 feet (.54 mile) upstream of Alhambra Avenue | *190
Appiam Creek:
At upstream side of Garden Road | *108
Approximately 1,320 feet upstream of Appian Way | *134
West Alamo Creek:
Approximately 2,870 feet (.54 mile) downstream of Green Meadow Drive | *718
At upstream side of BlackHawk Meadow Drive | *804
Wildcat Creek:
Approximately 475 feet downstream of Atchison Topeka and Santa Fe Railroad | *29
Maps are available for inspection at the Public Works Department, 255 Glacier Drive, Martinez, California
Danville (City), Contra Costa County (FEMA Docket No. B-7408)
Green Valley Creek:
Just upstream of Interstate 680 Culvert | *355
Just downstream of Stone Valley Road | *467
East Branch Valley Creek:
At confluence with Green Valley Creek | *423
Approximately 1,600 feet upstream of Green Valley Road | *458
Maps are available for inspection at City Hall, 510 La Gonda Way, Danville, California.
Fresno (City), Fresno County (FEMA Docket No. B-7404)
San Joaquin River:
Just upstream of State Highway 99 | *245
Approximately 1.10 miles upstream of State Highway 41 | *280
Maps are available for inspection at 2600 Fresno Street, Fresno, California.
Fresno County, Unincorporated Areas (FEMA Docket No.B-7404)
San Joaquin River:
Just upstream of Southern Pacific Railroad | *168
Approximately 1.10 miles upstream of State Highway 41 | *280
Just downstream of Friant Dam | *329
Maps are available for inspection at the Fresno County Library, 2420 Mariposa Street, Fresno, California
Pittsburg (City), Contra Costa County (FEMA Docket No. B-7408)
Kirker Creek:
Approximately 170 feet downstream of East 14th Street | *37
Approximately 140 feet upstream of Brush Creek Drive | *208
Maps are available for inspection at City Hall, 65 Civic Avenue, Pittsburg, California.
Richmond (City), Contra Costa County (FEMA Docket No. B-7404)
San Pablo Creek:
Approximately 690 feet downstream of Atchison, Topeka and Santa Fe Railway | *18
Approximately 60 feet upstream of Atchison, Topeka and Santa Fe Railway | *24
Wild Cat Creek:
Approximately 400 feet downstream of Atchison, Topeka and Santa Fe Railway | *27
At Atchison, Topeka and Santa Fe Railway | *30
Approximately 115 feet upstream of Atchison, Topeka and Santa Fe Railway | *31
Maps are available for inspection at City Hall, 2600 Barrett Avenue, Richmond, California.
COLORADO
Breckenridge (Town) Summit County (FEMA Docket No. 7298)
River Middle Branch:
Approximately 1,160 feet upstream of County Road 3 | *9,350
Approximately 1,800 feet upstream of South Park Drive | *9,631
Cucumber Gulch:
Approximately 100 feet upstream of confluence with Blue River Middle Branch | *9,457
Approximately 50 feet upstream of Airport Road | *9,469
Illinois Gulch:
At confluence with Blue River Middle Branch | *9,615
Approximately 200 feet upstream of Boreas Pass Road | *9,743
Jones Gulch:
Approximately 1,250 feet upstream from confluence with Blue River | *9,623
Approximately 2,300 feet upstream from confluence with Blue River | *9,665
Maps are available for inspection at the Engineering Office, 150 Ski Road, Breckenridge, Colorado.
Silverthorne (Town), Summit County (FEMA Docket No. B-7404)
Blue River:
Approximately 3,400 feet downstream of Hamilton Circle Road | +8,619
Approximately 1,150 feet upstream of U.S. Route 70 | +8,773
Willow Creek:
Approximately 700 feet downstream of Legend Lake Circle | +8,865
Approximately 550 feet upstream of Ranch Road | +8,869
Straight Creek:
Just downstream of River Road | +8,772
Approximately 750 feet upstream of Route 9 | +8,841
Elevation in feet (NAVD of 1988)
Maps are available for inspection at the Town Hall, 601 Center Circle, Silverthorne, Colorado.
Summit County (Unincorporated Areas) (FEMA Docket No. 7306)
Blue River Middle Branch:
Just downstream of County Road 3 | *9,341
Approximately 1,160 feet upstream of County Road 3 | *9,351
Cucumber Gulch:
Approximately 60 feet upstream of Airport Road | *9,469
Approximately 2,030 feet upstream of Airport Road | *9,548
Illinois Gulch:
Approximately 3,925 feet upstream of confluence with Blue River | *9,743
Approximately 475 feet upstream of Robbers Nest Road | *9,893
Maps are available for inspection at the Summit County GIS Department, 37 Summit County Road #1005, Frisco, Colorado.
Summit County, Unincorporated Areas (FEMA Docket No. B-7404)
Willow Creek:
At confluence with Blue River | *8,674
Approximately 400 feet upstream of Ranch Road | *8,864
Blue River:
Approximately 3,400 feet downstream of Winegard Road | *8,565
Approximately 2,400 feet upstream of Interstate 70 | *8,777
Maps are available for inspection at the Summit County GIS Department, 37 Summit County Road #1005, Frisco, Colorado.
IDAHO
Idaho County (Unincorporated Areas) (FEMA Docket No. B-7408)
Rapid River:
Approximately 250 feet upstream of Interstate Highway 95 | *2,002
Approximately 4,830 feet upstream of Interstate Highway 95 | *2,078
Maps are available for inspection at 320 West Main Street, Grangeville, Idaho.
IOWA
Shell Rock (City) (Butler County) (FEMA Docket No. B-7404)
Shell Rock River:
Approximately 4,900 feet downstream of Cherry Street | *900
Approximately 5,000 feet upstream of Cherry Street | *909
Shell Rock River Overflow Channel:
At confluence with Shell Rock River | *900
Immediately downstream of Lake Street | *902
Maps are available for inspection at City Hall, 303 South Cherry Street, Shell Rock, Iowa.
KANSAS
Andover (City), Butler County (FEMA Docket No. B-7401)
Four Mile Creek:
Approximately 12.9 miles upstream of confluence with Walnut River | *1,266
Approximately 17.5 miles upstream of confluence with Walnut River | *1,288
Four Mile Creek Tributary:
Just upstream of 110th Street | *1,287
Approximately 9,850 feet upstream of confluence with Four Mile Creek | *1,312
Republican Creek:
At approximately 1.3 miles upstream of confluence with Four Mile Creek | *1,266
At downstream side of Andover Road | *1,338
Republican Creek Tributary:
Approximately 1,900 feet downstream of U.S. Highway 54 | *1,290
Just upstream of U.S. Highway 54 | *1,300
North Tributary to Republican Creek:
Approximately 500 feet downstream of Andover Road | *1,341
Just upstream of Andover Road | *1,343
Terradyne Fork:
Approximately 2,500 feet upstream of confluence with Four Mile Creek | *1,320
Approximately 7,300 feet upstream of confluence with Four Mile Creek | *1,348
Maps are available at City Hall, 909 North Alexander Road, Andover, Kansas.
Butler County (Unincorporated Areas) (FEMA Docket No. B-7401)
Constant Creek:
At confluence with Walnut River | *1,270
Just upstream of Atchison, Topeka and Santa Fe Railway | *1,278
At downstream side of Interstate Highway 35/Kansas Turnpike | *1,335
Dry Creek:
At mouth of Santa Fe Lake north limits | *1,275
Approximately 250 feet downstream of Interstate Highway 35/Kansas Turnpike | *1,294
Dry Creek Tributary:
At confluence with Dry Creek | *1,280
At downstream limit of Interstate Highway 35/Kansas Turnpike | *1,302
East Tributary to Eight Mile Creek:
At confluence with Eight Mile Creek | *1,267
Approximately 3,600 feet upstream of confluence with Tributary to East Tributary to Eight Mile Creek | *1,313
Tributary to East Tributary to Eight Mile Creek:
At confluence with East Tributary to Eight Mile Creek | *1,296
Approximately 3,000 feet upstream of confluence with East Tributary to Eight Mile Creek | *1,307
West Tributary to Eight Mile Creek:
At confluence with Eight Mile Creek | *1,288
Approximately 6,250 feet upstream of 160th Street | *1,311
Tributary to West Tributary to Eight Mile Creek:
At confluence with West Tributary to Eight Mile Creek | *1,294
Approximately 1,500 feet upstream of 160th Street | *1,311
Elm Creek (above Augusta Lake):
Approximately 1,700 feet downstream of 70th Street (County Road 614) | *1,269
Approximately 200 feet downstream of 40th Street (County Road 608) | *1,326
Elm Creek—Tributary A:
At confluence with Elm Creek | *1,316
Approximately 2,400 feet upstream of confluence with Elm Creek | *1,320
Elm Creek—Tributary B:
At confluence with Elm Creek | *1,309
Approximately 150 feet upstream of Shumway Road | *1,329
Elm Creek—Tributary C:
At confluence with Elm Creek Tributary B | *1,312
Approximately 4,800 feet upstream of Shumway Road | *1,340
Four Mile Creek:
Approximately 12 miles upstream of confluence with Walnut River | *1,263
Approximately 13.5 miles upstream of confluence with Walnut River | *1,270
Approximately 900 feet upstream of 110th Street | *1,289
Four Mile Creek Tributary:
At confluence with Four Mile Creek | *1,283
Approximately 3,000 feet upstream of confluence with Four Mile Creek | *1,285
Republican Creek:
At confluence with Four Mile Creek | *1,262
Approximately 1,000 feet downstream Andover Road | *1,336
Republican Creek Tributary:
At confluence with Republican Creek | *1,273
Approximately 200 feet upstream of 90th Street | *1,314
North Tributary to Republican Creek:
Just upstream of Andover Road | *1,343
Approximately 3,000 feet upstream of Andover Road | *1,354
Tributary to Santa Fe Lake:
At Santa Fe Lake | *1,276
Approximately 100 feet upstream of County Road 612 | *1,314
Maps are available for inspection at the Butler County Courthouse, 205 West Central Avenue, Third Floor, El Dorado, Kansas.
Chanute (City), Neosho County (FEMA Docket No. B-7401)
Second Street Channel:
Approximately 440 feet downstream of Katy Road | *917
At Highland Avenue | *924
Approximately 60 feet upstream of Wilson Avenue | *964
Maps are available for inspection at the Engineering Department, Memorial Building, 101 S. Lincoln, Chanute, Kansas.
El Dorado (City) Butler County (FEMA Docket No. B-7401)
Constant Creek:
Approximately 350 feet downstream of Sunset Road | *1,280
Just downstream of Central Avenue | *1,311
Approximately 700 feet upstream of 6th Street | *1,328
Maps are available for inspection at City Hall, 220 East First Street, El Dorado, Kansas.
LOUISIANA
Livingston Parish and Incorporated Areas (FEMA Docket No. B-7404)
Amite River:
Approximately 1,300 feet downstream of Goodtime Road Extended | *8
At Route 16 and Plantation Road | *8
Just south of Route 16/42 at Colyell Bay | *13
Southwest of Legion Road near Colyell Bay | *13
At Willis Bayou and Route 16 | *16
Approximately 1,200 feet downstream of U.S. Highway 190 | *44
Just downstream of Illinois Central Gulf Railroad | *47
At the intersection of Cockerham Extended and North Range Avenue | *50
Approximately 2,000 feet northwest of the intersection of Route 16 and Route 63 | *86
Beaver Creek:
Just upstream of Fore Road | None
At confluence with Amite River | *52
Just downstream of Fore Road | *72
West Fork of Beaver Creek:
At confluence with Beaver Creek | *62
Just upstream of Bob West Road | *70
Clinton Allen Lateral:
At confluence with Beaver Creek | *53
Just downstream of Louisiana Highway 1024 | *66
West Colyell Creek:
Just upstream of Cave Market Road | *68
Just upstream of Sims Road | *86
Dumplin Creek:
Approximately 1,500 feet downstream of Aydell Lane | *41
Just upstream of U.S. Highway 190 | *43
Approximately 500 feet downstream of Whit Holden Road | *49
Approximately 200 feet upstream of Westcoll Road | *51
East Fork Dumplin Creek:
At confluence with Dumplin Creek | *43
Approximately 1,000 feet downstream of Meadow Crossing Drive | *48
Approximately 100 feet downstream of Louisiana Highway 1029 | *49
Killian Bayou:
At confluence with Tickfaw River Lower Reach | *8
Approximately 3,300 feet upstream of Louisiana Highway 22 | *10
Tickfaw River:
Approximately 1,400 feet downstream of Lower Reach Cypress Drive Extended | *7
Approximately 5,400 feet upstream from confluence of Butler Bayou | *9
Just upstream of Interstate 12 | *37
Just upstream of Horseshoe Road West Extended | *76
Maps for the unincorporated areas of Livingston Parish and the Villages of Killian and Port Vincent are available for inspection at 20161 Iowa Street, Livingston, Louisiana.
Maps for the City of Denham Springs are available for inspection at 941 Government Street, Denham Springs, Louisiana.
Maps for the Village of French Settlement are available for inspection at 16015 Highway 16, French Settlement, Louisiana.
Maps for the Town of Walker are available for inspection at 10136 Florida Boulevard, Walker, Louisiana.
NORTH DAKOTA
Nelson County, Unincorporated Areas (FEMA Docket No. 7322)
Stump Lake:
Entire shoreline of Stump Lake | *1,450
Maps are available for inspection at Nelson County Sheriff's Office, 210 W. B Avenue, Lakota, North Dakota.
Towner County, Unincorporated Areas (FEMA Docket No. 7322)
Mauvais Coulee River:
Section 8 of Township 157N and Range 66W (Panel 650 A) | *1,450
Section 36 of Township 157N and Range 66W (Panel 800 A) | *1,450
Maps are available for inspection at Sheriff's Office, 315 2nd Street, Cando, North Dakota.
OKLAHOMA
Jenks (City), Tulsa County (FEMA Docket No. B-7407)
Wilmott Creek:
Northwest of intersection of 101st Street and Sunbelt Railway | *612
Approximately 100 feet downstream of 91st Street | *613
Maps are available for inspection at City Hall, 211 North Elm Street, Jenks, Oklahoma.
SOUTH DAKOTA
North Sioux (City), Union County (FEMA Docket No. 7310)
Big Sioux River:
Approximately 5,900 feet downstream from Military Road | *1,101
Approximately 7,425 feet upstream from the Chicago Milwaukee St. Paul and Pacific Railroad | *1,108
Big Sioux River Split at Interstate 29:
Approximately 50 feet downstream from Westshore Drive | *1,109
At divergence from Big Sioux River | *1,110
Maps are available for inspection at City Hall, 301 Military Road, North Sioux City, South Dakota.
Union County (Unincorporated Areas) (FEMA Docket No. 7310)
Big Sioux River:
At mouth of Big Sioux River | *1,090
At Interstate 29 | *1,094
At State Route 48 | *1,143
Big Sioux River Split at Interstate 29:
Approximately 1,800 feet downstream of Westshore Drive | *1,108
At divergence from Big Sioux River | *1,110
Maps are available for inspection at Union County Planning and Zoning Office, 209 East Main, Elk Point, South Dakota.
WASHINGTON
Clallam County (Unincorporated Areas) (FEMA Docket No. 7278)
Elwha River:
Approximately 3,250 feet above mouth | *14
Approximately 3,800 feet above mouth | *16
Approximately 5,500 feet above mouth | *24
Approximately 8,000 feet above mouth | *35
Maps are available for inspection at the Clallam County Planning Department, 223 East Fourth Street, Port Angeles, Washington.
College Place (City), Walla Walla County (FEMA Docket No. B-7404)
Garrison Creek:
Approximately 3,300 feet upstream of Mission Road | *703
Approximately 6,400 feet upstream of Mission Road | *723
Maps are available for inspection at City Hall, 625 South College Avenue, College Place, Washington.
Lower Elwha Indian Reservation, Clallam County (FEMA Docket No. 7278)
Elwha River:
Approximately 650 feet above mouth | *7
Approximately 7,550 feet above mouth | *34
Maps are available for inspection at the Tribal Center, 2851 Lower Elwha Road, Port Angeles, Washington.
Washtucna (Town), Adams County (FEMA Docket No. B-7404)
Washtucna Coulee:
Approximately 2,700 feet downstream of Cooper Street | +1,002
Just downstream of Canal Street | +1,023
At confluence with Staley Coulee | +1,023
Approximately 800 feet upstream of the confluence with Staley | +1,025
Staley Coulee:
Just upstream of Canal Street | +1,023
Approximately 800 feet upstream of North Street | +1,032
Maps are available for inspection at the Washtucna Town Hall, 165 Southeast Main Street, Washtucna, Washington.
WYOMING
Sheridan (City), Sheridan County (FEMA Docket No. 7318)
Big Goose Creek:
Approximately 1.66 miles upstream of Works Street | *3,768
Approximately 4 miles upstream of Works Street | *3,800
Little Goose Creek:
Approximately 1,250 feet downstream of Brundage Lane | *3,782
Just upstream of County Road 66 | *3,836
Maps are available for inspection at the City of Sheridan Planning Department, 55 East Grinnell Avenue, Sheridan, Wyoming.

(Catalog of Federal Domestic Assistance No. 83.100, “Flood Insurance.”)
Dated: June 18, 2001.
Robert F. Shea,
Acting Administrator, Federal Insurance Administration and Mitigation.

[FR Doc. 01-15928 Filed 6-25-01; 8:45 am]

BILLING CODE 6718-04-P